DEPARTMENT OF JUSTICE

Office of Justice Programs

[OJP (NIJ) Docket No. 1554]

2011 National Institute of Justice Body Armor Workshop

AGENCY: National Institute of Justice, DOJ.

ACTION: Notice of Meeting of the 2011 NIJ Body Armor Workshop.

SUMMARY: The National Institute of Justice invites manufacturers of ballistic-resistant body armor, ballistic laboratory testing facilities and other interested parties to the 2011 NIJ Body Armor Workshop. This year's workshop will have topics of interest for management and technical personnel from the manufacturing and laboratory communities.

The workshop will be held at the Baltimore Convention Center, located at One W. Pratt St., Baltimore, MD, on Thursday, June 2, 2011 from 8 a.m. to 4 p.m. For the time being, the number of representatives is limited to three from each company or organization. As the workshop draws closer, space availability will be reassessed and a notice will be posted if more space is available.

Registration will close at 5 p.m. Eastern time on May 27, 2011. Please visit the Web site below to submit your registration request: http://www.justnet.org/Pages/2011NIJBodyArmorWorkshop.aspx.

FOR FURTHER INFORMATION CONTACT: Debra Stoe, by telephone at 202-616-7036 [Note: this is not a toll-free telephone number], or by e-mail at Debra.Stoe@usdoj.gov.

John H. Laub,
Director, National Institute of Justice.

[FR Doc. 2011-11568 Filed 5-10-11; 8:45 am]

BILLING CODE 4410-18-P